FEDERAL COMMUNICATIONS COMMISSION

47 CFR Part 76

[MB Docket No. 07-198; FCC 10-17]

Review of the Commission's Program Access Rules and Examination of Programming Tying Arrangements

AGENCY: Federal Communications Commission

ACTION: Final Rule; announcement of effective date.

SUMMARY: In this document, the Commission announces that the Office of Management and Budget (OMB) has approved, for a period of three years, the information collection requirements associated with new rules 47 CFR Sections 76.1001(b)(2) and 76.1003(l), and the amendment to 47 CFR Section 76.1003(c)(3). On March 3, 2010, the Commission published the summary document of the First Report and Order, In the Matter of Review of the Commission's Program Access Rules and Examination of Programming Tying Arrangements, MB Docket No. 07-198, FCC 10-17, at 75 FR 9692. The Ordering Clause of the First Report and Order stated that new rules 47 CFR Sections 76.1001(b)(2) and 76.1003(1) and the amendment to 47 CFR Section 76.1003(c)(3) will become effective after the Commission publishes a document in the Federal Register announcing when OMB approval for the information collection requirements associated with these rules has been received and when the revised rules will take effect. This document is consistent with the statement in the First Report and Order. Therefore, these rules will take effect on June 21, 2010.

DATES: 47 CFR Sections 76.1001(b)(2) and 76.1003(l), and the amendment to 47 CFR Section 76.1003(c)(3) published at 75 FR 9692, March 3, 2010 are effective on June 21, 2010.

FOR FURTHER INFORMATION CONTACT: Cathy Williams, cathy.williams@fcc.gov or on (202) 418-2918.

SUPPLEMENTARY INFORMATION: This document announces that, on June 14, 2010, OMB approved, for a period of three years, the information collection requirement(s) contained in new rules 47 CFR Sections 76.1001(b)(2) and 76.1003(l), and the amendment to 47 CFR 76.1003(c)(3). The Commission publishes this document to announce the effective date of these rules.

SYNOPSIS

As required by the Paperwork Reduction Act of 1995 (44 U.S.C. 3507), the Commission is notifying the public that it received OMB approval on June 14, 2010, for the information collection requirement(s) contained in new rules 47 CFR Sections 76.1001(b)(2) and 76.1003(l), and the amendment to 47 CFR 76.1003(c)(3).

Under 5 CFR 1320, an agency may not conduct or sponsor a collection of information unless it displays a current, valid OMB Control Number.

No person shall be subject to any penalty for failing to comply with a collection of information subject to the Paperwork Reduction Act that does not display a valid OMB Control Number.

The OMB Control Number is 3060-0888 and the total annual reporting burdens for respondents for these information collections are as follows:

OMB Control Number: 3060-0888.

OMB Approval Date: June 14, 2010.

Expiration Date: June 30, 2013.

Title: Section 76.7, Petition Procedures; Section 76.9, Confidentiality of Proprietary Information; Section 76.61, Dispute Concerning Carriage; Section 76.914, Revocation of Certification; Section 76.1001, Unfair Practices; Section 76.1003, Program Access Proceedings; Section 76.1302, Carriage Agreement Proceedings; Section 76.1513, Open Video Dispute Resolution.

Form Number: Not applicable.

Type of Review: Revision of a currently approved collection.

Respondents: Business or other for-profit entities.

Number of Respondents and Responses: 640 respondents; 640 responses.

Estimated Time per Response: 4.5 - 67.5 hours.

Frequency of Response: On occasion reporting requirement; Third party disclosure requirement.

Total Annual Burden: 23,040 hours.

Total Annual Costs: $1,065,600.

Obligation to Respond: Required to obtain or retain benefits. The statutory authority for this information collection is contained in Sections 4(i), 303(r), and 628 of the Communications Act of 1934, as amended.

Nature and Extent of Confidentiality: A party that wishes to have confidentiality for proprietary information with respect to a submission it is making to the Commission must file a petition pursuant to the pleading requirements in Section 76.7 and use the method described in Sections 0.459 and 76.9 to demonstrate that confidentiality is warranted.

Privacy Act Impact Assessment: No impact(s).

Needs and Uses: On January 20, 2010, the Commission adopted a First Report and Order, In the Matter of Review of the Commission's Program Access Rules and Examination of Programming Tying Arrangements, MB Docket No. 07-198, FCC 10-17. In the First Report and Order, the Commission established rules, policies, and procedures for the consideration of complaints alleging unfair acts involving terrestrially delivered, cable-affiliated programming in violation of Section 628(b) of the Communications Act. The Commission also established procedures for the consideration of requests for a temporary standstill of the price, terms, and other conditions of an existing programming contract by a program access complainant seeking renewal of such a contract.

Federal Communications Commission.
Marlene H. Dortch,
Secretary,
Office of the Secretary,
Office of Managing Director.

[FR Doc. 2010-14877 Filed 6-18-10; 8:45 am]

BILLING CODE 6712-01-S